DEPARTMENT OF THE INTERIOR

Bureau of Land Management

[WO-350-1430-EU-01-24 1A]

Extension of Approved Information Collection, OMB Number 1004-0157

AGENCY: Bureau of Land Management, Interior.

ACTION: Notice and request for comments.

SUMMARY: In accordance with the Paperwork Reduction Act of 1995, the Bureau of Land Management (BLM) is announcing its intention to request renewal of an existing approval to collect certain information from applicants who wish to acquire a right-of-way on public lands under the Federal Land Policy and Management Act (FLPMA) of 1976. Section 304(b) of FLPMA (90 Stat. 2765, 43 U.S.C. 1734) authorizes the Secretary to require applicants to reimburse the United States in advance for the expected reasonable administrative costs incurred by the United States to process rights-of-way applications. The information collection requirements found at 43 CFR 2808.3 are necessary for making a determination as to the reasonable level of reimbursement pursuant to Section 304(b) of FLPMA and to determine who may be granted a reduction or waiver of cost reimbursement.

DATES: Comments on the proposed information collection must be received by September 18, 2000 to be considered.

ADDRESSES: Comments may be mailed to: Regulatory Affairs Group (630), Bureau of Land Management, 1849 C Street NW, Room 401LS, Washington, DC 20240.

Comments may be sent via Internet to: WOComment@blm.gov. Please include “ATTN: 1004-0157” and your name and return address in your Internet message.

Comments may be hand-delivered to the Bureau of Land Management, Administrative Record, Room 401, 1620 L Street, NW, Washington, D.C. 20036.

Comments will be available for public review at the L Street address during regular business hours (7:45 a.m. to 4:15 p.m., Monday through Friday).

FOR FURTHER INFORMATION CONTACT: Alzata L. Ransom, Lands and Realty Group 202-452-7772.

SUPPLEMENTARY INFORMATION: In accordance with 5 CFR 1320.12(a), the BLM is required to provide 60-day notice in the Federal Register concerning a collection of information contained in a published current rule to solicit comments on (a) Whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, including through the use of appropriate automated, electronic, mechanical, or other technological collection techniques or other forms of information technology. The BLM will receive and analyze any comments sent in response to this notice and include them with its request for approval from the Office of Management and Budget under 44 U.S.C. 3501 et seq.

The BLM grants rights-of-way on public lands through the authority of Title V of the FLPMA (90 Stat. 2776, 43 U.S.C. 1761). Section 304(b) of FLPMA authorizes the BLM to receive payment of reasonable cost to reimburse the government for the cost of processing rights-of-way applications. In determining reasonable cost, BLM must consider such things as actual cost (exclusive of management overhead), the portion of cost incurred that is for the benefit of the general public rather than for the exclusive benefit of the applicant, the public service provided, and other relevant factors must be considered to determine who may be entitled to an off-set against reimbursement of costs. The information collection requirements found at 43 CFR 2808.3 are necessary to making a determination as to the reasonable level of reimbursement pursuant to Section 304(b) of FLPMA. The following is an explanation of specific items of information requested pursuant to 43 CFR 2803.3: Information on the monetary value of the rights and privileges sought by the applicant is needed to determine both eligibility and, if eligible, the reasonable level of reimbursement. Such data consist of an estimate of the cost to construct the proposed project on public lands. If applicants believe that they are eligible for further reimbursement reductions for public benefit or service aspects of the proposed project, proof of such public benefit or service, consisting of the identification of any original study data developed, identification of tangible improvements, such as roads, trails, recreation facilities, etc., are needed. Where applicants believe they should be considered for additional reductions or a waiver of cost reimbursement requirements, a showing of information on the nature of a financial hardship, existence of an outstanding lease or permit, proof of full time residency, requirements for the relocation of an existing facility or the existence of other compelling public benefits or services are needed in accordance with 43 CFR 2808.5 to aid in determining whether the applicant meets specific statutory requirements to obtain benefits. Failure to collect the necessary information would result in the inability of the BLM to develop defendable, reasonable reimbursement costs for applicants in accordance with statutory and regulatory requirements. The effect to the government would be insufficient payment received for services rendered or increased cost to the government relating to protest and appeal actions contesting the accuracy of the reimbursement cost determinations.

The respondents are individuals or companies who request a reduction or waiver of cost reimbursement. The frequency of response is once per applicant. The BLM estimates approximately 14 requests are received annually. Based on the BLM's experience it will take an average of three hours for a respondent to supply the necessary information. Based on the estimated 14 requests received annually and the average time of three hours it takes to supply the necessary information, the total annual burden is collectively 42 hours.

All responses to this notice will be summarized and included in the request for Office of Management and Budget approval. All comments will also become a matter of public record.

Dated: July 12, 2000.
Shirlean Beshir,
BLM Information Clearance Officer.

[FR Doc. 00-18091 Filed 7-17-00; 8:45 am]

BILLING CODE 4310-84-M